DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Evaluation of the Projects for Assistance in Transition From Homelessness (PATH) Program—New

SAMHSA is conducting the federally mandated Evaluation of the PATH program. The PATH grant program, created as part of the Stewart B. McKinney Homeless Assistance Amendments Act of 1990, is administered by SAMHSA's CMHS' Homeless Programs Branch. The PATH program is authorized under Section 521 et seq. of the Public Health Service (PHS) Act, as amended. The SAMHSA PATH program funds each Fiscal Year the 50 states, the District of Columbia, Puerto Rico, and four U.S. Territories (the U.S. Virgin Islands, Guam, American Samoa, and the Commonwealth of the Northern Mariana Islands). The PATH grantees make grants to local, public and non-profit organizations to provide the PATH allowable services.

The SAMHSA Administrator is required under Section 528 of the PHS Act to evaluate the expenditures of PATH grantees at least once every three years to ensure they are consistent with legislative requirements and to recommend changes to the program design or operations. The primary task of the PATH evaluation is to meet the mandates of Section 528 of the PHS Act. The second task of the PATH evaluation is to conduct additional data collection and analysis to further investigate the sources of variation in key program output and outcome measures that are important for program management and policy development. The PATH evaluation builds on the previous evaluation which was finalized in 2016 and was conducted as part of the National Evaluation of SAMHSA Homeless Programs. The PATH evaluation will use web surveys, telephone interviews and site visits to facilitate the collection of information regarding the structures and processes in place at the grantee and provider level. Data regarding the outputs and outcomes of the PATH program will be obtained from grantee applications, providers' intended use plans (IUPs) and from PATH annual report data, which is also required by Section 528 of the PHS Act and is approved under OMB No. 0930-0205.

Web Surveys will be conducted with all State PATH Contacts (SPCs) and staff from intermediary and PATH provider organizations. The Web Surveys will capture detailed and structured information in the following topics: Selection, monitoring and oversight of PATH providers; populations served; the PATH allowable or eligible services provided; sources for match funds; provision of training and technical assistance; implementation of Evidence Based Practices (EBPs) and innovative practices including SOAR; data reporting, use of data and the Homeless Management Information System (HMIS); and collaboration, coordination and involvement with Continuums of Care (CoCs) and other organizations. The SPCs for all grantees (n=56), the Project Directors from the PATH provider organizations (n=500) and staff from the intermediary organizations (n=28) will be contacted to complete the web surveys. The Web Surveys will be administered once.

Site Visits will be conducted with a purposive sample of PATH grantees and providers to collect more nuanced information than will be possible with the web survey. Semi-structured discussions will take place with the SPCs, grantee staff, PATH provider staff including the Project Director and other key management staffs, outreach workers, case managers and other clinical treatment staff, key stakeholders at the grantee and provider level and consumers. Five grantees will be selected for Site Visits and visited within each grantee will be one to two PATH providers. The Site Visits will be utilized to collect information regarding: Provider and state characteristics; practices and priorities; context within which the grantees and providers operate; and services available within the areas the providers operate. Also, discussed will be the successes, barriers, and strategies faced by PATH grantees and providers. Focus groups will be held with current or former consumers of the PATH program to obtain consumer perspectives regarding the impact of the programs. The Site Visits will be conducted once.

Telephone Interviews will be conducted with a sample of SPCs (n=28) and intermediary (n=14) and provider staff (n=60) to explore through open-ended questions in greater detail, explanations for variations among providers in measures that are important for program management and policy development. The outputs of the PATH program include: the number of persons receiving PATH-funded services, outreached/contacted and enrolled; the number of services provided; and the number of referrals provided. The outcome evaluation will be limited, given limitations in available data and will include the number of persons referred to and attaining substance use treatment, primary health services, job training, educational services, housing services, housing placement assistance, income assistance, employment assistance and medical assistance. The Telephone interviews will be conducted once.

The estimated burden for the reporting requirements for the PATH evaluation is summarized in the table below.

Annual Burden Table
Instrument/activity | Number of respondents | Responses per respondent | Total responses | Hours per response | Total hour burden
Web Surveys
SPC Web Survey | 1 56 | 1 | 56 | 1 | 56
PATH Intermediary Web Survey | 2 28 | 1 | 28 | 1 | 28
PATH Provider Web Survey | 3 500 | 1 | 500 | 1 | 500
Telephone Interviews
SPC Telephone Interviews | 4 28 | 1 | 28 | 1 | 28
PATH Intermediary Telephone Interviews | 5 14 | 1 | 14 | 1 | 14
PATH Provider Telephone Interviews | 6 60 | 1 | 60 | 1 | 60
Site Visit Interviews
Opening Session with State Staff | 7 25 | 1 | 25 | 2 | 50
SPC Session | 8 5 | 1 | 5 | 2 | 10
State Stakeholder Session | 9 25 | 1 | 25 | 1.5 | 37.5
Opening Session with PATH Provider Leadership Staff | 10 50 | 1 | 50 | 2 | 100
PATH Provider PD Session | 11 10 | 1 | 10 | 2 | 20
PATH Provider Direct Care Staff Session | 12 50 | 1 | 50 | 2 | 100
Provider Stakeholder Session | 13 50 | 1 | 50 | 1.5 | 75
Consumer Focus Groups | 14 100 | 1 | 100 | 1.5 | 150
Total | 1,001 |  | 1,001 |  | 1,228.5
¹ 1 respondent × 56 SPCs = 56 respondents.
² 1 respondent × 28 Intermediaries = 28 respondents.
³ 1 respondent × 500 PATH providers = 500 respondents.
⁴ 1 respondent × 28 SPCs = 28 respondents.
⁵ 1 respondent × 14 Intermediaries = 14 respondents.
⁶ 1 respondent × 60 PATH providers = 60 respondents.
⁷ 5 respondents × 5 site visits = 25 respondents.
⁸ 1 respondent × 5 site visits = 5 respondents.
⁹ 5 respondents × 5 site visits = 25 respondents.
¹⁰ 5 respondents × 10 site visits (2 providers per state) = 50 respondents.
¹¹ 1 respondent × 10 site visits (2 providers per state) =10 respondents.
¹² 5 respondents × 10 site visits (2 providers per state) = 50 respondents.
¹³ 5 respondents × 10 site visits (2 providers per state) = 50 respondents.
¹⁴ 10 respondents × 10 site visits (10 Consumers per provider (2 providers per state) = 100 respondents.

Send comments to Summer King, SAMHSA Reports Clearance Officer, 5600 Fishers Lane, Room 15E57-B, Rockville, Maryland 20857, OR email a copy to summer.king@samhsa.hhs.gov. Written comments should be received by August 25, 2017.

Summer King,
Statistician.

[FR Doc. 2017-13240 Filed 6-23-17; 8:45 am]

BILLING CODE 4162-20-P